DEPARTMENT OF LABOR

Employment and Training Administration

[TA-W-59,622]

Gyrus ACMI Corporation; Racine, WI; Notice of Termination of Investigation

Pursuant to section 221 of the Trade Act of 1974, an investigation was initiated on June 26, 2006 in response to a petition filed by a company official on behalf of workers at Gyrus ACMI Corporation, Racine, Wisconsin.

The petitioner has requested that the petition be withdrawn. Consequently, the investigation has been terminated.

Signed in Washington, DC, this 30th day of June 2006.
Elliott S. Kushner,
Certifying Officer, Division of Trade Adjustment Assistance.

[FR Doc. E6-11869 Filed 7-24-06; 8:45 am]

BILLING CODE 4510-30-P